FEDERAL COMMUNICATIONS COMMISSION

Notice of Public Information Collection(s) Being Reviewed by the Federal Communications Commission, Comments Requested

April 24, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 1, 2002. If you anticipate that you will be submitting comments, but find it difficult to do so within the period of time allowed by this notice, you should advise the contact listed below as soon as possible.

ADDRESSES: Direct all comments to Judith Boley Herman or Leslie Smith, Federal Communications Commission, Room 1-C804 or Room 1-A804, 445 12th Street, SW, Washington, DC 20554 or via the Internet to jboley@fcc.gov or lesmith@fcc.gov.

FOR FURTHER INFORMATION CONTACT: For additional information or copies of the information collection(s), contact Judith Boley Herman at 202-418-0214 or via the Internet at jboley@fcc.gov.

SUPPLEMENTARY INFORMATION: OMB Control No.: 3060-1004.

Title: E911 Waivers.

Form No.: N/A.

Type of Review: Revision of a currently approved collection.

Respondents: Business or other for-profit, and state, local or tribal governments.

Number of Respondents: 443.

Estimated Time Per Response: 5 hours.

Frequency of Response: Recordkeeping requirement; quarterly and semi-annual reporting requirements.

Total Annual Burden: 2,215 hours.

Total Annual Cost: N/A.

Needs and Uses: The quarterly and supplemental reports will be used by the Commission to monitor carrier progress in transition to E911, and thus ensure that this important effort will continue in an orderly and timely fashion.

The burden estimates in this notice include the information currently approved by OMB and additional information for the newly affected entities.

In February 2002, the Commission received emergency approval from the Office of Management and Budget (OMB) for reporting burdens contained in a series of Orders allowing seven carriers additional time to comply with the Commission's Enhanced 911 Phase II implementation schedule subject to certain reporting requirements. The Commission opened a period for comment on these burdens at 67 FR 14714, March 27, 2002. The period for comment ends on May 28, 2002. However, the Commission has revised the information contained in the announcement of the comment period in anticipation of other carriers who might also seek a waiver and be subject to the reporting requirement. So, the Commission revised its original notice and associated burden estimates and extends the public comment period for 60 days after publication in the Federal Register.

Federal Communications Commission.
Marlene H. Dortch,
Secretary.

[FR Doc. 02-10835 Filed 5-1-02; 8:45 am]

BILLING CODE 6712-01-P